NATIONAL AERONAUTICS AND SPACE ADMINISTRATION

[Notice (06-005)]

Performance Review Board, Senior Executive Service (SES)

AGENCY: National Aeronautics and Space Administration (NASA).

ACTION: Notice of Membership of SES Performance Review Board.

SUMMARY: The Civil Service Reform Act of 1978, Public Law 95-454 (Section 405) requires that appointments of individual members to a Performance Review Board be published in the Federal Register.

The performance review function for the SES in NASA is being performed by the NASA Performance Review Board (PRB) and the NASA Senior Executive Committee. The latter performs this function for senior executives who report directly to the Administrator or the Deputy Administrator and members of the PRB. The following individuals are serving on the Board and the Committee:

Performance Review Board

Chairperson, Associate Administrator, NASA Headquarters

Executive Secretary, Director, Agency Human Resources Division, NASA Headquarters

Chief of Staff, NASA Headquarters

Associate Administrator for Exploration Systems Mission Directorate, NASA Headquarters

Associate Administrator for Space Operations Mission Directorate, NASA Headquarters

Associate Administrator for Science Mission Directorate, NASA Headquarters

Associate Administrator for Aeronautics Research Mission Directorate, NASA Headquarters

Associate Administrator for Institutions and Management, NASA Headquarters

Assistant Administrator for Diversity and Equal Opportunity, NASA Headquarters

Assistant Administrator for Human Capital Management, NASA Headquarters

General Counsel, NASA Headquarters

Director, Ames Research Center

Director, Dryden Flight Research Center

Director, Glenn Research Center

Director, Goddard Space Flight Center

Director, Johnson Space Center

Director, Kennedy Space Center

Director, Langley Research Center

Director, Marshall Space Flight Center

Director, Stennis Space Center

Senior Executive Committee

Chairperson, Deputy Administrator, NASA Headquarters

Chair, Executive Resources Board, NASA Headquarters

Chair, NASA Performance Review Board, NASA Headquarters

Chief of Staff, NASA Headquarters

Associate Administrator for Science Mission Directorate, NASA Headquarters

Associate Administrator for Program Analysis and Evaluation, NASA Headquarters

Associate Administrator for Space Operations Mission Directorate, NASA Headquarters

Michael D. Griffin,
Administrator.

[FR Doc. E6-872 Filed 1-24-06; 8:45 am]

BILLING CODE 7510-13-P